POSTAL SERVICE

39 CFR Part 111

Restricting the Mailing of Replica or Inert Explosive Devices

AGENCY: Postal Service™.

ACTION: Final rule.

SUMMARY: The Postal Service is revising Mailing Standards of the United States Postal Service, Domestic Mail Manual (DMM®) 601.11, to implement a new standard restricting the mailing of replica or inert explosive devices, such as simulated grenades that are not dangerous but bear a realistic appearance to explosive devices, to Registered Mail™ service only.

DATES: Effective Date: July 6, 2010.

FOR FURTHER INFORMATION CONTACT: Evans King, 202-268-4982, or Mary J. Collins, 202-268-5440.

SUPPLEMENTARY INFORMATION: The Postal Service published a proposed rule in the Federal Register on January 5, 2010 (75 FR 282-283), which added restrictions to the mailing of replica and inert explosive devices in the mail. The Postal Service did not receive any comments in response to this proposal. Therefore, we will be revising the DMM as proposed. The Postal Service will specifically identify these items using the term “replica or inert explosive devices” rather than the proposed “replica or inert munitions.” The Postal Service is also implementing a revised process for mailing such items via Registered Mail service only rather than prohibiting them from the mail altogether.

In the past, postal operations have been disrupted and facilities have been evacuated when replica or inert explosive devices have been discovered in the mail. Such evacuations resulted in unnecessary expense and loss of productivity to the Postal Service and have jeopardized USPS® service commitments. We believe the implementation of the DMM revisions described in this final rule will minimize the chances of operational disruptions caused by replica or inert explosive devices and at the same time allow mailers to continue to use the mail for shipping these items.

The Postal Service herby adopts the following changes to the Mailing Standards for the United States Postal Service, Domestic Mail Manual (DMM), which is incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

* * * * *

Mailing Standards of the United States Postal Service, Domestic Mail Manual (DMM)

* * * * *

600 Basic Standards for All Mailing Services

601 Mailability

* * * * *

11.0 Other Restricted and Nonmailable Matter

* * * * *

[Renumber current 11.5 through 11.21 as 11.6 through 11.22 and insert new 11.5 to read as follows:]

11.5 Replica or Inert Explosive Devices

Replica or inert explosive devices that bear a realistic appearance to explosive devices such as simulated grenades, but that are not dangerous, are permitted in the mail when all of the following conditions are met:

a. The package is presented by the mailer at a retail counter.

b. Registered Mail service is used. (Registered Mail service is only available for items mailed as either First-Class Mail or Priority Mail.)

c. The address side of the package is labeled with “REPLICA EXPLOSIVE” using at least 20 point type or letters at least ¼-inch high.

* * * * *

We will publish an amendment to 39 CFR Part 111 to reflect these changes.

Neva R. Watson,
Attorney, Legislative.

[FR Doc. 2010-12887 Filed 5-28-10; 8:45 am]

BILLING CODE 7710-12-P